DEPARTMENT OF ENERGY

Federal Energy Regulatory Commission

[Project No. 12120-001]

North Unit Irrigation District; Notice of Surrender of Preliminary Permit

October 8, 2002.

Take notice that North Unit Irrigation District, permittee for the proposed Wickiup Dam Project, has requested that its preliminary permit be terminated. The permit was issued on February 7, 2002, and would have expired on January 31, 2005. The project would have been located on the Deschutes River in Deschutes County, Oregon.

The permittee filed the request on August 5, 2002, and the preliminary permit for Project No. 12120 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-26084 Filed 10-11-02; 8:45 am]

BILLING CODE 6717-01-P